ENVIRONMENTAL PROTECTION AGENCY

[ER-FRL-6634-2]

Environmental Impact Statements; Notice of Availability

Responsible Agency: Office of Federal Activities, General Information, (202) 564-7167 or http://www.epa.gov/compliance/nepa/.

Weekly receipt of Environmental Impact Statements

Filed October 07, 2002 through October 11, 2002

Pursuant to 40 CFR 1506.9.

EIS No. 020419, Final EIS, BLM, CA, Coachella Valley California Desert Conservation Area Plan Amendment, Santa Rosa and San Jacinto Mountains Trails Management Plan, Implementation, Riverside and San Bernardino Counties, CA, Wait Period Ends: November 18, 2002, Contact: Jim Foote (760) 351-4836.

EIS No. 020420, Draft EIS, FHW, MT, US-89 from Fairfield to Dupuyer Corridors Study, Reconstruction, Widening, and Realignment, Route Connects Yellowstone National Park to the South, with Glacier National Park to the North, Teton and Pondera Counties, MT, Comment Period Ends: December 02, 2002, Contact: Dale W. Paulson (406) 449-5302.

EIS No. 020421, Draft EIS, FHW, OR, Newberg-Dundee Transportation Improvement Project (TEA 21 Prog. #37), Proposal to Relieve Congestion on Ore. 99W through the Cities of Newberg and Dundee, Bypass Element Location (Tier 1), Yamhill County, OR, Comment Period Ends: December 02, 2002, Contact: Jim Cox (503) 986-3013.

EIS No. 020422, Draft EIS, BLM, TX, NM, El Camino Real De Tierra Adentro National Historic Trail, Comprehensive Management Plan, Implementation, TX and NM, Comment Period Ends: January 15, 2003, Contact: Terry Humphrey (505) 751-4718. This document is available on the Internet at: http://www.elcaminoreal.org.

EIS No. 020423, Final EIS, NPS, CA, Santa Cruz Island Primary Restoration Plan, Implementation, Channel Island National Park, Santa Cruz Island, Santa Barbara County, CA, Wait Period Ends: November 18, 2002, Contact: Alan Schmierer (415) 427-1441.

EIS No. 020424, Final Supplement, FRC, WA, Rocky Creek Hydroelectric Project, (FERC No. 10311-002) Construction and Operation of a 8.3 megawatt (Mw) Project, Application for License, Rocky Creek, Skagit County, WA, Wait Period Ends: November 18, 2002, Contact: Dianne Rodman (202) 502-6077.

EIS No. 020425, Final EIS, FHW, NY, County Road (Mill Hill Road and Glen Road) Improvements, From Howard Drive to State Route 9N including a New Bridge over the East Branch of the Ausable River, Funding and COE Section 404. Permit, Essex County, NY, Wait Period Ends: November 18, 2002, Contact: Robert Arnold (518) 431-4127.

EIS No. 020426, Draft EIS, AFS, MT, Garver Project, Regeneration Harvest and Old Growth, Implementation, Kootenai National Forest, Three Rivers Ranger District, Lincoln County, MT, Comment Period Ends: December 18, 2002, Contact: Kathy Mohar (406) 295-4693.

EIS No. 020427, Final EIS, NPS, WV, National Coal Heritage Area, Strategic Management Action Plan, Implementation, Boone, Cabell, Fayette, Logan, McDowell, Mercer, Mingo, Raliegh, Summers, Wayne and Wyoming Counties, WV, Wait Period Ends: November 18, 2002, Contact: Peter Samuel (215) 597-1848.

Dated: October 15, 2002.
Joseph C. Montgomery,
Director, NEPA Compliance Division, Office of Federal Activities.

[FR Doc. 02-26594 Filed 10-17-02; 8:45 am]

BILLING CODE 6560-50-P